DEPARTMENT OF AGRICULTURE

DEPARTMENT OF HEALTH AND HUMAN SERVICES

Announcement of the First Meeting of the 2010 Dietary Guidelines Advisory Committee and Solicitation of Written Comments

AGENCIES: U.S. Department of Agriculture (USDA), Food, Nutrition and Consumer Services (FNCS) and Research, Education and Economics (REE); and U.S. Department of Health and Human Services (HHS), Office of Public Health and Science (OPHS).

ACTION: Notice.

SUMMARY: The Department of Agriculture and the Department of Health and Human Services (a) provide notice of the first meeting of the Dietary Guidelines Advisory Committee and (b) solicit written comments pertinent to review of the Dietary Guidelines for Americans.

DATES: This Notice is provided to the public on October 14, 2008. (a) The first Dietary Guidelines Advisory Committee meeting will be held on October 30 and 31, 2008, from 8:30 a.m.-4 p.m. E.S.T. on both days. (b) Written comments on the Guidelines received by October 24, 2008 will be ensured transmission to the Committee prior to this meeting. Written comments will, however, be accepted throughout the Committee's deliberations.

ADDRESSES: The first meeting will take place at the U.S. Department of Agriculture, Jefferson Auditorium, 1400 Independence Ave., SW., Washington, DC 20250. Written comments are encouraged to be submitted electronically at http://www.DietaryGuidelines.gov. A “submit comments” button will be available to click on. Comments can also be mailed to the following address: Carole Davis, Co-Executive Secretary of the Dietary Guidelines Advisory Committee, Center for Nutrition Policy and Promotion, U.S. Department of Agriculture, 3101 Park Center Drive, Room 1034, Alexandria, VA 22302, (703) 305-7600 (telephone), (703) 305-3300 (fax).

FOR FURTHER INFORMATION CONTACT: USDA Co-Executive Secretaries: Carole Davis (telephone 703-305-7600), Center for Nutrition Policy and Promotion, 3101 Park Center Drive, Room 1034, Alexandria, Virginia 22302; or, Shanthy Bowman (telephone 301-504-0619), Agricultural Research Service (ARS), Beltsville Human Nutrition Research Center, 10300 Baltimore Avenue, Building 005, Room 125, BARC-WEST, Beltsville, Maryland 20705. HHS Co-Executive Secretaries: Kathryn McMurry (telephone 240-453-8280) or Holly McPeak (telephone 240-453-8280), Office of Disease Prevention and Health Promotion, Office of Public Health and Science, 1101 Wootton Parkway, Suite LL100, Rockville, Maryland 20852. Additional information is available on the Internet at http://www.DietaryGuidelines.gov.

SUPPLEMENTARY INFORMATION: Purpose of the Meeting: Section 301 of Public Law 101-445 (7 U.S.C. 5341, the National Nutrition Monitoring and Related Research Act of 1990, Title III) directs the Secretaries of USDA and HHS to publish the Dietary Guidelines for Americans at least every five years. Based on a thorough review of the most current scientific and applied literature, the Dietary Guidelines Advisory Committee will advise the Secretaries as to whether a revision of the Dietary Guidelines for Americans, 2005 is warranted. If the Committee decides a revision is warranted, it will provide its recommendations in an advisory report to the Secretaries.

Meeting Agenda: The meeting agenda will include (a) Orientation for the Committee members, (b) presentations on the history of the Dietary Guidelines and how they are used, (c) presentation on USDA's Nutrition Evidence Library, (d) formulation of plans for future work of the Committee.

Public Participation and Building Access

The Jefferson Auditorium is in the USDA South Building, located on the corner of Independence Ave. and 14th Street, SW., Washington, DC. The meeting is open to the public. Due to the need for security screening, pre-registration is required and all visitors must bring a photo I.D. To pre-register, please go to http://www.DietaryGuidelines.gov and click on the link for Meeting Registration or call the scheduler through the meeting planner, Crystal Tyler, at 202-314-4701 by 5 p.m. E.S.T., October 28, 2008. Registration must include name, affiliation, phone number or e-mail, and days attending. Space is limited for this meeting. Early registration is recommended. Following pre-registration, individuals will receive a confirmation of registration via e-mail. This e-mail will also include important information regarding security procedures for entering the South Building, instructions to the Jefferson Auditorium, and metro, parking, and hotel information. Written comments from the public will be accepted; opportunities to present oral comments may be provided at future meetings. Please call Crystal Tyler at 202-314-4701 should you require a sign language interpreter or require other special accommodations. Documents pertaining to Committee deliberations will be available for public viewing at the meeting, and thereafter, will also be accessible 8:30 a.m. to 4:30 p.m. Eastern time, Monday through Friday (except Federal holidays) at the Reference Desk of the National Agricultural Library, USDA/ARS, 10301 Baltimore Avenue, Beltsville, MD 20705. The Reference Desk telephone phone number is 301-504-5755; however, no advanced appointments are necessary. Documents will be made available the day before and following the meeting. Meeting materials (i.e. , agenda, meeting minutes, and transcript) will be made available at http://www.DietaryGuidelines.gov.

Dated: August 22, 2008.
Brian Wansink,
Executive Director, Center for Nutrition Policy and Promotion, U.S. Department of Agriculture.
Dated: August 27, 2008.
Edward B. Knipling,
Administrator, Agricultural Research Service, U.S. Department of Agriculture.
Dated: August 22, 2008.
Penelope Slade Royall,
Deputy Assistant Secretary for Health (Disease Prevention and Health Promotion), U.S. Department of Health and Human Services.

[FR Doc. E8-24294 Filed 10-10-08; 8:45 am]

BILLING CODE 3410-30-P